SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-30, 2018.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals by Rule Issued Under 18 CFR 806.22(f)

1. BKV Operating, LLC, Pad ID: Plushanski Well Pad, ABR-201806001, Lemon Township, Wyoming County, Pa.; Consumptive Use of Up to 2.1000 mgd; Approval Date: June 7, 2018.

2. Cabot Oil & Gas Corporation, Pad ID: BishopB P1, ABR-201305013.R1, Springville Township, Susquehanna County, Pa.; Consumptive Use of Up to 5.0000 mgd; Approval Date: June 7, 2018.

3. Cabot Oil & Gas Corporation, Pad ID: HustonJ P1, ABR-201305014.R1, Brooklyn Township, Susquehanna County, Pa.; Consumptive Use of Up to 5.0000 mgd; Approval Date: June 7, 2018.

4. Cabot Oil & Gas Corporation, Pad ID: HouselR P1, ABR-201305015.R1, Lenox Township, Susquehanna County, Pa.; Consumptive Use of Up to 5.0000 mgd; Approval Date: June 7, 2018.

5. Cabot Oil & Gas Corporation, Pad ID: GillinghamR P1, ABR-201305017.R1, Forest Lake Township, Susquehanna County, Pa.; Consumptive Use of Up to 5.0000 mgd; Approval Date: June 7, 2018.

6. Repsol Oil & Gas USA, LLC, Pad ID: THORNE (07 080) G, ABR-201306005.R1, Apolacon Township, Susquehanna County, Pa.; Consumptive Use of Up to 6.0000 mgd; Approval Date: June 7, 2018.

7. Repsol Oil & Gas USA, LLC, Pad ID: TRAVER (07 081) E, ABR-201306006.R1, Choconut Township, Susquehanna County, Pa.; Consumptive Use of Up to 6.0000 mgd; Approval Date: June 7, 2018.

8. Repsol Oil & Gas USA, LLC, Pad ID: STICKNEY (07 087) A, ABR-201312004.R1, Choconut Township, Susquehanna County, Pa.; Consumptive Use of Up to 6.0000 mgd; Approval Date: June 7, 2018.

9. SWN Production Company, LLC, Pad ID: Heckman Camp (Pad F), ABR-201307001.R1, Herrick Township, Bradford County, Pa.; Consumptive Use of Up to 4.9990 mgd; Approval Date: June 7, 2018.

10. SWN Production Company, LLC, Pad ID: Whipple (Pad 14), ABR-201307003.R1, Herrick Township, Bradford County, Pa.; Consumptive Use of Up to 4.9990 mgd; Approval Date: June 7, 2018.

11. SWN Production Company, LLC, Pad ID: King N (Pad NW1), ABR-201307004.R1, Franklin Township, Susquehanna County, Pa.; Consumptive Use of Up to 4.9990 mgd; Approval Date: June 7, 2018.

12. Range Resources—Appalachia, LLC, Pad ID: Laurel Hill B Unit, ABR-201306004.R1, Cogan House Township, Lycoming County, Pa.; Consumptive Use of Up to 1.0000 mgd; Approval Date: June 11, 2018.

13. Cabot Oil & Gas Corporation, Pad ID: ReynoldsR P1, ABR-201306008.R1, Jessup Township, Susquehanna County, Pa.; Consumptive Use of Up to 5.0000 mgd; Approval Date: June 21, 2018.

14. Cabot Oil & Gas Corporation, Pad ID: StarzecE P1, ABR-201306009.R1, Bridgewater Township, Susquehanna County, Pa.; Consumptive Use of Up to 5.0000 mgd; Approval Date: June 21, 2018.

15. SWN Production Company, LLC, Pad ID: TNT LTD PART WEST, ABR-201307002.R1, New Milford Township, Susquehanna County, Pa.; Consumptive Use of Up to 4.9990 mgd; Approval Date: June 21, 2018.

Authority: Pub. L. 91-575, 84 Stat. 1509 et seq., 18 CFR parts 806, 807, and 808.

Dated: August 7, 2018.
Stephanie L. Richardson,
Secretary to the Commission.

[FR Doc. 2018-17239 Filed 8-10-18; 8:45 am]

BILLING CODE 7040-01-P